DEPARTMENT OF ENERGY

Federal Energy Regulatory Commission

[Docket No. ER99-852-008, et al.]

Edison Mission Marketing & Trading Inc., et al.; Electric Rate and Corporate Filings

May 11, 2005.

The following filings have been made with the Commission. The filings are listed in ascending order within each docket classification.

1. Edison Mission Marketing & Trading, Inc.

[Docket No. ER99-852-008]

Take notice that on May 6, 2005, Edison Mission Marketing & Trading, Inc. (EMMT) filed revisions to its market-based rate tariff in compliance with the Commission's order issued April 14, 2005 in Midwest Generation, LLC., 111 FERC ¶61,034 (2005).

EMMT states that copies of this filing were served upon all persons on the service list in the above-referenced proceeding.

Comment Date: 5 p.m. eastern time on May 27, 2005.

2. Westar Energy, Inc.

[Docket Nos. ER05-307-001, ER05-308-001]

Take notice that on May 4, 2005, Westar Energy, Inc. (Westar) submitted a compliance filing pursuant to the Commission's letter order issued February 4, 2005 in Docket Nos. ER05-307-000 and ER05-308-000.

Westar states that copies of the filing were served upon the Kansas Corporation Commission, PR&W Electric Cooperative Association, Inc. and Flint Hills Electric Cooperative Association, Inc.

Comment Date: 5 p.m. eastern time on May 25, 2005.

3. Energy Investments, LLC

[Docket No. ER05-734-001]

Take notice that on May 4, 2005, Energy Investment, LLC, submitted an amendment to its March 28, 2005 filing in Docket No. ER05-734-000 of its Rate Schedule FERC No. 1, to include the market behavior rules and reporting requirements.

Comment Date: 5 p.m. eastern time on May 25, 2005.

4. Metropolitan Edison Company

[Docket No. ER05-943-000]

Take notice that on May 6, 2005, Metropolitan Edison Company, a FirstEnergy Company, (MetEd) submitted for filing an amended Generation Facility Transmission Interconnection Agreement (Agreement) between MetEd and Reliant Energy Hunterstown, LLC (Reliant), designated as First Revised Service Agreement No. 561 under PJM Interconnection, L.L.C.'s (PJM) Open Access Transmission Tariff.

MetEd states that copies of this filing have been served on regulators in Pennsylvania, Reliant and PJM.

Comment Date: 5 p.m. eastern time on May 27, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2487 Filed 5-17-05; 8:45 am]

BILLING CODE 6717-01-P